DEPARTMENT OF ENERGY

Federal Energy Regulatory Commission

Combined Notice of Filings #2

Take notice that the Commission received the following electric corporate filings:

Docket Numbers: EC24-116-000.

Applicants: Wabash Valley Power Association, Inc.

Description: Application for Authorization Under Section 203 of the Federal Power Act of Wabash Valley Power Association, Inc.

Filed Date: 8/30/24.

Accession Number: 20240830-5348.

Comment Date: 5 p.m. ET 9/20/24.

Take notice that the Commission received the following electric rate filings:

Docket Numbers: ER18-1156-003.

Applicants: St. Joseph Energy Center, LLC.

Description: St. Joseph Energy Center, LLC submits tariff filing per 35: Informational Filing Pursuant to Schedule 2 of the PJM OATT to be effective N/A.

Filed Date: 9/4/24.

Accession Number: 20240904-5150.

Comment Date: 5 p.m. ET 9/25/24.

Docket Numbers: ER20-2740-000.

Applicants: Hickory Run Energy, LLC.

Description: Report Filing: Hickory Run Energy, LLC Reactive Power Notice for Filing 1 to be effective N/A.

Filed Date: 7/18/24.

Accession Number: 20240718-5042.

Comment Date: 5 p.m. ET 9/6/24.

Docket Numbers: ER24-2799-000.

Applicants: Tri-State Generation and Transmission Association, Inc.

Description: Petition for Limited Waiver of Tri-State Generation and Transmission Association, Inc.

Filed Date: 8/13/24.

Accession Number: 20240813-5206.

Comment Date: 5 p.m. ET 9/25/24.

Docket Numbers: ER24-2926-000.

Applicants: GDQ ESS, LLC.

Description: Petition for Limited Waiver and Request for Shortened Comment Period and Expedited Commission Action of GDQ ESS, LLC.

Filed Date: 8/29/24.

Accession Number: 20240829-5262.

Comment Date: 5 p.m. ET 9/19/24.

Docket Numbers: ER24-2957-000.

Applicants: Wabash Valley Power Association, Inc.

Description: Pre-Arranged/Pre-Agreed (Settlement and Settlement Agreement) of Wabash Valley Power Association, Inc.

Filed Date: 8/30/24.

Accession Number: 20240830-5346.

Comment Date: 5 p.m. ET 9/20/24.

Docket Numbers: ER24-2958-000.

Applicants: PPL Electric Utilities Corporation, PJM Interconnection, L.L.C.

Description: Tariff Amendment: PPL Electric Utilities Corporation submits tariff filing per 35.15: Notice of Cancellation of ECSA, SA No. 6789 to be effective 11/4/2024.

Filed Date: 9/4/24.

Accession Number: 20240904-5026.

Comment Date: 5 p.m. ET 9/25/24.

Docket Numbers: ER24-2959-000.

Applicants: PPL Electric Utilities Corporation, PJM Interconnection, L.L.C.

Description: Tariff Amendment: PPL Electric Utilities Corporation submits tariff filing per 35.15: Notice of Cancellation of ECSA, SA No. 6494 to be effective 11/4/2024.

Filed Date: 9/4/24.

Accession Number: 20240904-5028.

Comment Date: 5 p.m. ET 9/25/24.

Docket Numbers: ER24-2960-000..

Applicants: PPL Electric Utilities Corporation, PJM Interconnection, L.L.C.

Description: Tariff Amendment: PPL Electric Utilities Corporation submits tariff filing per 35.15: Notice of Cancellation of ECSA, SA No. 6222 to be effective 11/4/2024.

Filed Date: 9/4/24.

Accession Number: 20240904-5030.

Comment Date: 5 p.m. ET 9/25/24.

Docket Numbers: ER24-2961-000.

Applicants: AEP Texas Inc.

Description: 205(d) Rate Filing: AEPTX-Seven Flags BESS 1st Amended Generation Interconnection Agreement to be effective 8/19/2024.

Filed Date: 9/4/24.

Accession Number: 20240904-5033.

Comment Date: 5 p.m. ET 9/25/24.

Docket Numbers: ER24-2962-000.

Applicants: AEP Texas Inc.

Description: AEP Texas Inc. submits tariff filing per 35.13(a)(2)(iii: AEPTX-STEC (Catarina, Fresa, Palafox) Facilities Develop.m.ent Agreements to be effective 8/19/2024.

Filed Date: 9/4/24.

Accession Number: 20240904-5040.

Comment Date: 5 p.m. ET 9/25/24.

Docket Numbers: ER24-2963-000.

Applicants: LRE Interconnection Manager, LLC.

Description: Compliance filing: Notice of Succession to be effective 9/5/2024.

Filed Date: 9/4/24.

Accession Number: 20240904-5045.

Comment Date: 5 p.m. ET 9/25/24.

Docket Numbers: ER24-2964-000.

Applicants: Antelope Valley BESS, LLC.

Description: Compliance filing: Revised Certificate of Concurrence Tariff Record to be effective 9/5/2024.

Filed Date: 9/4/24.

Accession Number: 20240904-5055.

Comment Date: 5 p.m. ET 9/25/24.

Docket Numbers: ER24-2965-000.

Applicants: Chaparral Springs, LLC.

Description: Compliance filing: Revised Certificate of Concurrence Tariff Records to be effective 9/5/2024.

Filed Date: 9/4/24.

Accession Number: 20240904-5056.

Comment Date: 5 p.m. ET 9/25/24.

Docket Numbers: ER24-2966-000.

Applicants: Rabbitbrush Solar, LLC.

Description: Compliance filing: Revised Certificate of Concurrence Tariff Records to be effective 9/5/2024.

Filed Date: 9/4/24.

Accession Number: 20240904-5057.

Comment Date: 5 p.m. ET 9/25/24.

Docket Numbers: ER24-2967-000.

Applicants: PJM Interconnection, L.L.C.

Description: Tariff Amendment: Notice of Cancellation—ISA Service Agreement No. 6508, Queue No. AE2-121 to be effective 11/4/2024.

Filed Date: 9/4/24.

Accession Number: 20240904-5122.

Comment Date: 5 p.m. ET 9/25/24.

Docket Numbers: ER24-2968-000.

Applicants: Midcontinent Independent System Operator, Inc.

Description: 205(d) Rate Filing: 2024-09-04_SA 4340 Entergy Arkansas-Entergy Arkansas GIA (Independence) to be effective 8/21/2024.

Filed Date: 9/4/24.

Accession Number: 20240904-5124.

Comment Date: 5 p.m. ET 9/25/24.

Docket Numbers: ER24-2969-000.

Applicants: Midcontinent Independent System Operator, Inc.

Description: 205(d) Rate Filing: 2024-09-04_SA 4339 Entergy Arkansas-Entergy Arkansas GIA (White Bluff) to be effective 8/21/2024.

Filed Date: 9/4/24.

Accession Number: 20240904-5125.

Comment Date: 5 p.m. ET 9/25/24.

Docket Numbers: ER24-2970-000.

Applicants: ISO New England Inc., Central Maine Power Company.

Description: 205(d) Rate Filing: ISO New England Inc. submits tariff filing per 35.13(a)(2)(iii: ISO-NE/CMP; Original Service Agreement No. LGIA-ISONE/CMP-24-01 to be effective 8/8/2024.

Filed Date: 9/4/24.

Accession Number: 20240904-5131.

Comment Date: 5 p.m. ET 9/25/24.

Docket Numbers: ER24-2971-000; TS24-5-000.

Applicants: Dan's Mountain Wind Force, LLC, Dan's Mountain Wind Force, LLC.

Description: Request for Temporary Waiver, et al. of Dan's Mountain Wind Force, LLC.

Filed Date: 8/30/24.

Accession Number: 20240830-5352.

Comment Date: 5 p.m. ET 9/20/24.

Docket Numbers: ER24-2972-000.

Applicants: PJM Interconnection, L.L.C.

Description: Tariff Amendment: Notice of Cancellation—WMPA Service Agreement No. 5244; Queue No. AD1-085 to be effective 11/4/2024.

Filed Date: 9/4/24.

Accession Number: 20240904-5155.

Comment Date: 5 p.m. ET 9/25/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: September 4, 2024.
Debbie-Anne A. Reese,
Acting Secretary.

[FR Doc. 2024-20404 Filed 9-9-24; 8:45 am]

BILLING CODE 6717-01-P